DEPARTMENT OF COMMERCE

National Oceanic and Atmospheric Administration

[Docket No. 000522149-4089-06]

Dean John A. Knauss Marine Policy Fellowship Program

AGENCY: National Sea Grant College Program, National Oceanic and Atmospheric Administration (NOAA), Department of Commerce (DOC).

ACTION: Notice and request for proposals.

SUMMARY: This notice announces that applications may be submitted for a Fellowship program which was initiated by the National Sea Grant Office (NSGO), National Oceanic and Atmospheric Administration (NOAA), in fulfilling its broad educational responsibilities and legislative mandate of the Sea Grant Act, to provide educational experience in the policies and processes of the Legislative and Executive Branches of the Federal Government to graduate students in marine and aquatic-related fields.

DATES: Deadlines vary from program to program, but applications from prospective fellows to Sea Grant Colleges are generally due early to mid-April. Contact your state's Sea Grant program for specific deadlines (see addresses below). Selected applications from the sponsoring Sea Grant program (one original and two copies) are to be received in the NSGO no later than 5 p.m. e.d.t. on May 5, 2004.

ADDRESSES: Application information may be obtained from Sea Grant College Program Directors. The addresses of the Sea Grant College Program directors may be found on Sea Grant's World Wide Web home page (http://www.nsgo.seagrant.org/SGDirectors.html) or may also be obtained by contacting Ms. Nikola Garber at the NSGO (mail address: National Sea Grant College Program, 1315 East-West Highway, SSMC3, Rm 11718, R/SG, Silver Spring, MD 20910; phone: 301-713-2431 x124; or e-mail: nikola.garber@noaa.gov.

FOR FURTHER INFORMATION CONTACT: Ms. Nikola Garber, phone: 301-713-2431 x124; or e-mail: nikola.garber@noaa.gov). Applications information may also be obtained directly from the Sea Grant's World Wide Web (http://www.nsgo.seagrant.org/Knauss/Knauss2005.html)

SUPPLEMENTARY INFORMATION: Electronic Access: The full funding opportunity announcement for the Knauss Fellowship is available via Web site: http://www.nsgo.seagrant.org/Knauss/Knauss2005.html or by contacting the program official identified above. This announcement will also be available through Grants.gov at http://www.Grants.gov.

Funding Availability: The local Sea Grant program receives and administers the overall grant of $40,000 per student on behalf of each Fellow selected from their program. Not less than 30 applicants will be selected, of which the selected applicants assigned to the Congress will be limited to 10.

Statutory Authority: The recipients are designated Dean John A. Knauss Marine Policy Fellows pursuant to 33 U.S.C. 1127(b).

CFDA: 11.417, Sea Grant Support.

Eligibility: Any student who, on April 1, 2004, is in a graduate or professional program in a marine or aquatic-related field at a United States accredited institution of higher education in the United States may apply.

Cost Sharing Requirements: There will be the one-third required cost share for those applicants selected as legislative fellows.

Intergovernmental Review: Applications under this program are not subject to Executive Order 12372, “Intergovernmental Review of federal programs.”

Evaluation and Selection Procedures: NOAA published its first omnibus notice announcing the availability of grant funds for both projects and fellowships/scholarship/internships for Fiscal Year 2004 in the Federal Register on June 30, 2003 (68 FR 38678). The evaluation criteria and selection procedures contained in the June 30, 2003 omnibus notice are applicable to this solicitation. For a copy of the June 30, 2003 omnibus notice please go to http://www/ofa.noaa.gov/~amd/SOLINDEX.HTML.

The Department of Commerce Pre-Award Notification Requirements for Grants and Cooperative Agreements

The Department of Commerce Pre-Award Notification Requirements for Grants and Cooperative Agreements contained in the Federal Register notice of October 1, 2001 (66 FR 49917), as amended by the Federal Register notice published on October 30, 2002 (67 FR 66109), are applicable to this solicitation.

The National Environmental Policy Act

As defined in sections 5.05 and Administrative or Programmatic Functions of NAO 216-6, 6.03.c.3, this is a fellowship project for which there are no cumulative effects. Thus, it has been categorically excluded from the need to prepare an Environmental Assessment.

Paperwork Reduction Act

This document contains collection-of-information requirements subject to the Paperwork Reduction Act (PRA). The use of Standard Forms 424 and 424A, 424B, SF-LLL, and CD-346 has been approved by OMB under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comments are not required by the Administrative Procedure Act or any other law for this notice concerning grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: March 16, 2004.
Louisa Koch,
Deputy Assistant Administrator, OAR, National Oceanic and Atmospheric Administration.

[FR Doc. 04-6284 Filed 3-19-04; 8:45 am]

BILLING CODE 3510-KA-P